AGENCY FOR INTERNATIONAL DEVELOPMENT

Board for International Food and Agricultural Development One Hundred and Fifty-Third Meeting; Notice of Meeting

Pursuant to the Federal Advisory Committee Act, notice is hereby given of the one hundred and fifty-third meeting of the Board for International Food and Agricultural Development (BIFAD). The meeting will be held from 8 a.m. to 5 p.m. on February 27, 2008 at the National Press Club located at 529 14th St., NW., Washington, DC. The venue will be the 1st Amendment Room which is located on the 13th floor of the National Press Club.

Dr. Robert Easter, Chairman of BIFAD will open the meeting. Dr. Easter is the Dean, College of Agriculture, Consumer and Environment Sciences at the University of Illinois. Dean Easter's appointment as Chairman was confirmed by the White House on January 21, 2008. Dean Easter has been serving as interim Chairman since April 30, 2007 when Mr. Peter McPherson, former USAID Administrator, resigned from the Board. The Board also welcomes two new members: Mr. H. H. Barlow III (Kentucky) and Mr. Keith Eckel (Pennsylvania). They will be sworn in by Jacqueline E. Schafer, Assistant Administrator for the Economic Growth, Agriculture and Trade Bureau, USAID.

The morning session's topics will include presentations on the Global Summit on Higher Education and Development, and also the Global Development Commons as being initiated by USAID Administrator Henrietta H. Fore. Status Reports will be given on two of BIFAD's activities; the study on “Defining a Title XII Activity,” and the Conference of Deans which is being planned for April 2008. There will be a general discussion focusing on Strategic Directions of BIFAD in 2008. Jacqueline E. Schafer will brief the Board on the President's 2009 budget and its impacts for agriculture programs.

Following the Board's executive luncheon (closed to the public) and the swearing-in of the new Board members BIFAD will be updated on the “Universities as Sub-Contractor's” issue and on USAID's approach for preparing the 2007 Title XII Report. Highlighting the afternoon session will be discussion with the Office of Agriculture on planning actions for two new CRSPs (Global Horticulture and Global Livestock-Climate Change). BIFAD committee actions will also be discussed; including updates by Ray Miller, Chair of BIFAD's new special Task Force and Sandra Russo, Chair of BIFAD's sub-committee Strategic Partnership for Agricultural Research and Education (SPARE).

SPARE-Special Notice: The SPARE committee will hold its next meeting on February 26, 2008. It will begin at 1:30 p.m. The meeting venue is in the multi-purpose conference room located on the 1st floor of NASULGC's offices located at 1307 New York Ave., NW., Washington, DC.

The Board and SPARE meetings are free and open to the public. The Board and SPARE welcomes an open dialog to promote greater focus on critical issues facing USAID and international agriculture. Those wishing to attend the meeting or obtain additional information about BIFAD should contact Dr. Ronald S. Senykoff, the Designated Federal Officer for BIFAD. Write him in care of the U.S. Agency for International Development, Ronald Reagan Building, Office of Agriculture, Bureau for Economic Growth, Agriculture and Trade, 1300 Pennsylvania Avenue, NW., Room 2.11-085, Washington, DC 20523-2110 or telephone him at (202) 712-0218 or fax (202) 216-3010.

Ronald S. Senykoff,
USAID Designated Federal Officer for BIFAD, Office of Agriculture and Food Security, Bureau for Economic Growth, Agriculture & Trade, U.S. Agency for International Development.

[FR Doc. E8-2744 Filed 2-12-08; 8:45 am]

BILLING CODE 6116-01-P